DEPARTMENT OF ENERGY

Federal Energy Regulatory Commission

[Docket No. IC20-25-000]

Commission Information Collection Activities (Ferc-717); Comment Request; Extension

AGENCY: Federal Energy Regulatory Commission, Energy.

ACTION: Notice of extension information collection and request for comments.

SUMMARY: In compliance with the requirements of the Paperwork Reduction Act of 1995, the Federal Energy Regulatory Commission (“Commission” or “FERC”) is soliciting public comment on the extension to the information collection, FERC-717 (Standards for Business Practices and Communication Protocols for Public Utilities) which will be submitted to the Office of Management and Budget (OMB) for a review of the information collection requirements.

DATES: Comments on the collection of information are due November 13, 2020.

ADDRESSES: Please submit a copy of your comments to the Commission (identified by Docket No. IC20-25-000) by one of the following methods:

• eFiling at Commission's website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at: http://www.ferc.gov. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663.

SUPPLEMENTARY INFORMATION: Title: FERC-717, Standards for Business Practices and Communication Protocols for Public Utilities.

OMB Control No.: 1902-0173.

Type of Request: Three-year approval of the FERC-717 information collection requirements with no changes to the current reporting requirements.¹

¹ This collection notice does not address the NOPR for RM05-29 and RM05-30.

Abstract: The Commission directs all public utilities that own, control or operate facilities for transmitting energy in interstate commerce to provide certain types of information regarding their transmission operations on an Open Access Same-time Information System (OASIS). The Commission does not believe that open-access nondiscriminatory transmission services can be completely realized until it removes real-world obstacles that prevent transmission customers from competing effectively with the Transmission Provider. One of the obstacles is unequal access to transmission information. The Commission believes that transmission customers must have simultaneous access to the same information available to the Transmission Provider if truly nondiscriminatory transmission services are to be a reality.

The Commission also established Standards of Conduct requiring that personnel engaged in transmission system operations function independently from personnel engaged in marketing functions. The Standards of Conduct were designed to prevent employees of a public utility (or any of its affiliates) engaged in marketing functions from preferential access to OASIS-related information or from engaging in unduly discriminatory business practices. Companies were required to separate their transmission operations/reliability functions from their marketing/merchant functions and prevent system operators from providing merchant employees and employees of affiliates with transmission-related information not available to all customers at the same time through public posting on the OASIS.

Type of Respondents: Transmission Owners and Transmission Operators.

Estimate of Annual Burden ²: The Commission estimates an adjustment in the annual public reporting burden for the FERC-717. The adjustment is due to Transmission Providers being allowed to file responses jointly or individually. The Transmission Provider may delegate this responsibility to a Responsible Party such as another Transmission Provider, an Independent System Operator, a Regional Transmission Group, or a Regional Reliability Council. The number comprise two separate entities: Transmission Owners and Transmission Operators. The responses submitted are our best estimate of the Transmission Operators and remaining individual Transmission Owners. The rationale is that some Transmission Owners have elected to turn over operational control of their collective transmission systems to Transmission Operators, including RTOs/ISOs (as authorized in 18 CFR 37.5). These Transmission Operators offer OASIS access to the collective systems facilitating a single OASIS transmission request serving multiple transmission systems. As a result of these efficiency gains, the lower respondent count is appropriate.

² Burden is defined as the total time, effort, or financial resources expended by persons to generate, maintain, retain, or disclose or provide information to or for a Federal agency. For further explanation of what is included in the information collection burden, refer to 5 Code of Federal Regulations 1320.3.

As a result of the efficiency gains, and an overestimate of the respondents in our past requests, we are submitting a more accurate number of respondents. The estimate below reflects the work associated with the current information collection requirements:

FERC-717, Standards for Business Practices and Communication Protocols for Public Utilities ³
Information collection requirements | Number of respondents | Annual number of responses per respondent | Total number of responses | Average burden hours & cost per response ⁴ | Total annual burden hours & total annual cost
| (1) | (2) | (1) * (2) = (3) | (4) | (3) * (4) = (5)
FERC-717 | 162 | 1 | 162 | 30 hrs.; $2,490 | 4,860 hrs.; $403,380.
FERC-717 (compliance with standards, one-time) ⁵ | 165 | 1 | 165 | 10 hrs.; ⁶ $830 | 1,650 hrs.; $136,950.
Total |  |  | 327 |  | 6,510 hrs.; $540,330.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ This collection includes the one-time burden (over a 3 year period of time) for the Final Rule RM05-25,05-26,05-27 [ICR Reference No: 202002-1902-006]

⁴ The Commission staff thinks that the average respondent for this collection is similarly situated to the Commission, in terms of salary plus benefits. Based upon FERC's FY 2020 annual average of $172,329, (for salary plus benefits), the average hourly cost is $83/hour.

⁵ FERC-717 corresponds to OMB Control No. 1902-0173 that identifies the information collection associated with Standards for Business Practices and Communication Protocols for Public Utilities.

⁶ The 30-hour estimate was developed in Docket No. RM05-5-013, when the Commission prepared its estimate of the scope of work involved in transitioning to the NAESB Version 002.1 Business Practice Standards. See Order No. 676-E, 129 FERC 61,162 at P 134. (FERC-717, 165 * 30 = 4,950 hrs./3 = 1,650 hrs./year)

Dated: September 8, 2020.
Kimberly D. Bose,
Secretary.

[FR Doc. 2020-20166 Filed 9-11-20; 8:45 am]

BILLING CODE 6717-01-P